FEDERAL MARITIME COMMISSION

Ocean Transportation Intermediary License Applicants

Notice is hereby given that the following applicants have filed with the Federal Maritime Commission an application for license as a Non-Vessel-Operating Common Carrier and Ocean Freight Forwarder—Ocean Transportation Intermediary pursuant to section 19 of the Shipping Act of 1984 as amended (46 U.S.C. Chapter 409 and 46 CFR 515).

Persons knowing of any reason why the following applicants should not receive a license are requested to contact the Office of Transportation Intermediaries, Federal Maritime Commission, Washington, DC 20573.

Non-Vessel-Operating Common Carrier Ocean Transportation Intermediary Applicants

NTL Naigai Trans Line (USA) Inc., 970 West 190th Street, Ste. 580, Torrance, CA 90502, Officer: Yoji Kurita, President. (Qualifying Individual)

CN Worldwide B.V., 102-120 Lichtenauerlaan, Rotterdam 3062 ME Netherlands, Officer: Anita Ernesaks, Managing Director. (Qualifying Individual)

Champion Xpress Shipping Inc., 106-13 Liberty Ave., Ozone Park, NY 11417, Officer: Joel M. Perry, President. (Qualifying Individual)

Brisk International Express, Inc., 8237 NW. 66th Street, Miami, FL 33166, Officer: Amauri C. Monteiro, President. (Qualifying Individual)

Non-Vessel-Operating Common Carrier and Ocean Freight Forwarder Transportation Intermediary Applicants

Unico Logistics USA, Inc., 10711 Walker Street, Unit B, Cypress, CA 90630, Officers: Chul (Roy) Young Jang, Secretary, (Qualifying Individual), Dookee Kim, CEO.

Fastway Moving and Storage Inc. dba Redlog, 155 West Street, Wilmington, MA 01887, Officers: Leonardo P. Albuquerque, Vice President, (Qualifying Individual), Carolina Albuquerque, President.

Aries Freight Systems, LP, 1501 E. Richey Road, Houston, TX 77073, Officer: Jeffrey L. McIntyre, President. (Qualifying Individual)

America-Westafrica Trade Link, Inc., dba Freight-Rite America, Inc., 101 Muses Court, Cary, NC 27513, Officers: Romanus E. Ndianefo, President, (Qualifying Individual), Chika L. Ndianefo, Secretary.

Dated: October 30, 2009.
Karen V. Gregory,
Secretary.

[FR Doc. E9-26554 Filed 11-3-09; 8:45 am]

BILLING CODE P